DEPARTMENT OF THE INTERIOR

Bureau of Land Management

[BLM_NV_FRN_MO4500173317]

Notice of Segregation of Public Land for the Pantheon Solar Project, White Pine County, NV

AGENCY: Bureau of Land Management, Interior.

ACTION: Notice of segregation.

SUMMARY: Through this notice the Bureau of Land Management (BLM) is segregating public lands included in the right-of-way application for the Pantheon Solar project (N-099861) from appropriation under the public land laws, including the Mining Law, but not the Mineral Leasing or Material Sales Acts, for a period of 2 years from the date of publication of this notice, subject to valid existing rights. This segregation is to allow for the orderly administration of the public lands to facilitate consideration of development of renewable energy resources. The public lands segregated by this notice total 4,210.06 acres.

DATES: This segregation for the lands identified in this notice takes effect on October 31, 2023.

FOR FURTHER INFORMATION CONTACT: For further information and/or to have your name added to the mailing list, send requests to: Jared Bybee, Field Manager, at telephone (775) 289-1847; address 702 N Industrial Way, Ely, NV 89301 or email jbybee@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Regulations found at 43 CFR 2091.3-1(e) and 43 CFR 2804.25(f) allow the BLM to temporarily segregate public lands within a right-of-way application area for solar energy development from the operation of the public land laws, including the Mining Law, by publication of a Federal Register notice. The BLM uses this temporary segregation authority to preserve its ability to approve, approve with modifications, or deny proposed rights-of-way and to facilitate the orderly administration of the public lands. This temporary segregation is subject to valid existing rights. Licenses, permits, cooperative agreements, or discretionary land use authorizations of a temporary nature that would not impact lands identified in this notice may be allowed with the approval of an authorized officer of the BLM during the segregation period. The lands segregated under this notice are legally described as follows:

Mount Diablo Meridian, Nevada

T. 16 N., R. 60 E.,

Sec. 1, lots 2 thru 7, SW¼NE¼, S½NW¼, SW¼, and W½SE¼;

Sec. 2, lots 1, 7, and 8, S½NE¼, SE¼NW¼, and S½;

Sec. 11, N½NE¼, SE¼NE¼, and SE¼;

Sec. 12, W½NE¼, W½, and W½SE¼;

Sec. 13, NW¼NE¼ and W½;

Sec. 14, NE¼, E½SW¼, and SE¼;

Sec. 22, SE¼NE¼ and E½SE¼;

Sec. 23, NE¼, NE¼NW¼, S½NW¼, and S½;

Sec. 24, W½;

Sec. 25, NW¼;

Sec. 26, N½NE¼, SE¼NE¼, and N½NW¼.

T. 17 N., R. 60 E.,

Sec. 35, SE¼SE¼;

Sec. 36, SE¼NW¼ and SW¼.

The area described contains 4,210.06 acres, according to the official protraction diagrams and the official plats of the surveys of the said lands on file with the BLM.

As provided in the regulations, the segregation of lands in this notice will not exceed 2 years from the date of publication unless extended for an additional 2 years through publication of a new notice in the Federal Register. The segregation period will terminate and the land will automatically reopen to appropriation under the public land laws, including the mining laws, at the earliest of the following dates: upon issuance of a decision by the authorized officer granting, granting with modifications, or denying the application for a right-of-way; without further administrative action at the end of the segregation provided for in the Federal Register notice initiating the segregation; or upon publication of a Federal Register notice terminating the segregation.

Upon termination of the segregation of these lands, all lands subject to this segregation would automatically reopen to appropriation under the public land laws, including the mining laws.

Authority: 43 CFR 2091.3-1(e) and 43 CFR 2804.25(f)

Jared Bybee,
Field Manager—Bristlecone Field Office.

[FR Doc. 2023-23998 Filed 10-30-23; 8:45 am]

BILLING CODE 4331-21-P